ENVIRONMENTAL PROTECTION AGENCY

[OPPTS-400143; FRL-6492-5]

Workshop Schedules for EPCRA/TRI Training

AGENCY: Environmental Protection Agency (EPA).

ACTION: Notice.

SUMMARY: EPA will conduct EPCRA/TRI Training workshops across the country during the spring of 2000. These workshops are intended to assist persons preparing their annual reports on release and other waste management activities as required under section 313 of the Emergency Planning and Community Right-to-Know Act of 1986 (EPCRA) and section 6607 of the Pollution Prevention Act of 1990 (PPA). These reports must be submitted to EPA and designated state officials on or before July 1, 2000.

FOR FURTHER INFORMATION CONTACT: Michael Hart, (202) 260-1576 or hart.michael@epa.gov, for specific information on this notice, or to register for training, contact SAIC (http://www.EPCRA-TRI.com; e-mail: Training@EPCRA-TRI.com; fax: (703) 318-4644; or telephone: (703) 318-4504).

SUPPLEMENTARY INFORMATION:

I. Does this Action Apply to Me?

You may find this notice applicable if you manufacture, process, or otherwise use any EPCRA section 313 listed toxic chemical. Potentially applicable categories and entities may include, but are not limited to:

Category | Examples of regulated entities
Industry | Metal mining, coal mining, manufacturing, electricity generating facilities, hazardous waste treatment/TSDF, chemicals and allied products-wholesale, petroleum bulk plants and terminals, and solvent recovery services
Federal Government | Federal facilities

This table is not intended to be exhaustive, but rather provides a guide for readers regarding entities likely to find this notice of training course offerings applicable. Other types of entities not listed in the table may also find this notice applicable. To determine whether your facility could find this notice applicable, you should carefully examine the applicability criteria in part 372 subpart B of Title 40 of the Code of Federal Regulations. If you have questions regarding the applicability of this action to a particular entity, consult the person listed in the preceding FOR FURTHER INFORMATION CONTACT section. You may be able to take advantage of the training courses if:

• Your facility is a facility covered under section 313 of the Emergency Planning and Community Right-to-Know Act (EPCRA).

• Your facility is a Federal facility that manufactures, processes, or otherwise uses section 313 listed toxic chemicals.

• You prepare annual release and other waste management activity reports (i.e., Form R).

• You prepare Form A certification statements.

• You are a consultant who assists in the preparation of these reports.

• You would like information on recent changes to EPCRA/TRI regulations.

EPA conducts annual training courses to assist you with your reporting requirements under section 313 of the Emergency Planning and Community Right-to-Know Act of 1986 (EPCRA) and section 6607 of the Pollution Prevention Act of 1990 (PPA) or Executive Order 12856 (for Federal facilities). You must submit your annual release and other waste management activity reports (i.e., Form R) if your facility meets the descriptions for the following Standard Industrial Classification (SIC) codes and qualifiers:

• Metal Mining (SIC Code 10, except 1011, 1081, and 1094).

• Coal Mining (SIC Code 12, except 1241).

• Manufacturing (SIC Codes 20-39).

• Electricity Generating Facilities (SIC Codes 4911, 4931, and 4939-- limited to facilities that combust coal and/or oil for the purpose of generating electricity for distribution in commerce).

• Hazardous Waste Treatment/TSDF (SIC Code 4953 - limited to facilities regulated under RCRA subtitle C, 42 U.S.C. section 6921 et seq.).

• Chemicals and Allied Products (SIC Code 5169).

• Petroleum Bulk Plants and Terminals (SIC Code 5171).

• Solvent Recovery (SIC Code 7389 - limited to facilities primarily engaged in solvents recovery services on a contract or fee basis).

• Federal Facilities (by Executive Order 12856).

II. What is Presented at These Training Courses?

The training courses present reporting requirements of EPCRA section 313 and PPA section 6607. A variety of hands-on exercises using the reporting forms (i.e., Form R) along with supporting materials will be used to help you understand any reporting obligations you might have under EPCRA section 313. The training courses are scheduled in the spring so that you can prepare and submit your report(s) for the Reporting Year 1999 on or before July 1, 2000.

III. How Much Time is Required for the Training?

The full training course runs 2 days and a schedule for the 2-day workshops is provided below (see Table 1 under Unit IV.). The first day is devoted to a general discussion of EPCRA section 313 and PPA section 6607 reporting requirements with exercises used to reinforce key concepts. Beginning the second day, an update on the TRI Program will begin. Interested persons may register for both days (persons with little or no background in EPCRA section 313 and PPA section 6607 reporting requirements) or just the second day (persons experienced in preparing either Form R or Form A). In addition, EPA is conducting abbreviated training courses. These courses are 1 day in duration and, in some cases, are focused for a particular industry sector(s) (see Table 2 under Unit IV.).

IV. When are These Training Courses Offered and How Do I Register?

The schedules for training courses are provided in the tables below. You should note, however, that changes to the schedules may occur without further notice so it is important to check your registration materials and confirmation notice. Also, you may access current training course schedule information via the TRI Home Page (http://www.epa.gov/tri).

You should direct your requests for training course registration materials, including schedules of dates and locations, to SAIC (http://www.EPCRA-TRI.com; e-mail: Training@EPCRA-TRI.com; fax: (703) 318-4644; or telephone: (703) 318-4504).

To register, you must provide all of the following information to the registration contact indicated: your name, your company's name and SIC code, your postal address, your telephone number, your fax number, your e-mail address, and your preferred training location(s). Requests for registration applications should be directed to the indicated registration contact.

You will receive an acknowledgment of application receipt via fax or e-mail. If your application is accepted, a confirmation notice will be sent to you that will contain important information regarding date, location, directions, etc. If the training course you applied for is filled or canceled, alternate training courses will be suggested. Since space is limited, you are encouraged to submit your registration application as early as possible but not less than 1 week before your preferred training course.

Table 1.—EPCRA/TRI Training: Spring 2000 2-Day Workshop Schedule ¹
Date | Location | Registration Contact
March 9-10 | Columbus, OH | SAIC
March 16-17 | Honolulu, HI | SAIC
March 20-21 | San Francisco, CA | SAIC
April 3-4 | Newington, CT | SAIC
April 3-4 | Dallas, TX | SAIC
April 4-5 | Boston, MA | SAIC
April 4-5 | Houston, TX | SAIC
April 12-13 | Roanoke, VA | SAIC
April 13-14 | New York, NY | SAIC
April 17-18 | Atlanta, GA | SAIC
April 19-20 | Salt Lake City, UT | SAIC
April 20-21 | Mobile, AL | SAIC
May 1-2 | Charlotte, NC | SAIC
May 3-4 | Knoxville, TN | SAIC
May 11-12 | Kansas City, KS | SAIC
May 11-12 | Portland, OR | SAIC
May 15-16 | Reno, NV | SAIC
May 17-18 | Seattle, WA | SAIC
May 18-19 | Phoenix, AZ | SAIC
May 22-23 | Atlanta, GA | SAIC
May 24-25 | Philadelphia, PA | SAIC
May 24-25 | Louisville, KY | SAIC
June 1-2 | Los Angeles, CA | SAIC
June 5-6 | Ann Arbor, MI | SAIC
June 7-8 | Chicago, IL | SAIC
¹ This schedule may change without further notice. A schedule reflecting any changes to this notice will be posted at http://www.epa.gov/tri.

Table 2.—Schedule for Other EPCRA/TRI Workshops ¹
Date | Location | Registration Contact
February 23 | Denver, CO ² | Jack Salter, USEPA Region 8
February 24 | Denver, CO ³ | Jack Salter, USEPA Region 8
February 28-29 | Reno, NV | Scott Alquist, TMCC
March 6-7 | Las Vegas, NV | Scott Alquist, TMCC
March 9-10 | Carson City, NV | Scott Alquist, TMCC
March 21 | Salt Lake City, UT ² | Jack Salter, USEPA Region 8
March 22 | Salt Lake City, UT ³ | Jack Salter, USEPA Region 8
March 23 | Redding, CA | SAIC
April 12 | Edison, NJ | SAIC
April 12 | Denver, CO ² | Jack Salter, USEPA Region 8
April 17 | Sioux Falls, SD | SAIC
April 19 | Richmond, VA | Chris Weber
April 19 | Atlanta, GA (DOD) | SAIC
April 21 | Casper, WY | SAIC
April 25 | Charleston, WV | Jan Taylor
April 25 | Omaha, NE | Stephen Wurtz, USEPA Region 7
April 26 | Cleveland, OH | Fran Guido, USEPA Region 5
April 27 | Cedar Rapids, IA ⁴ | Stephen Wurtz, USEPA Region 7
April 28 | St. Charles/St. Louis, MO ⁴ | Stephen Wurtz, USEPA Region 7
May 2 | Buffalo, NY | SAIC
May 2 | Baltimore, MD | Chris Weber
May 2 | Chicago, IL | Fran Guido, USEPA Region 5
May 4 | Syracuse, NY | SAIC
May 4 | Hagerstown, MD | Chris Weber
May 4 | Indianapolis, IN | Fran Guido, USEPA Region 5
May 9 | Pittsburg, PA | Chris Weber
May 10 | Wichita, KS | Stephen Wurtz, USEPA Region 7
May 11 | Flint, MI | Fran Guido, USEPA Region 5
May 15 | Spokane, WA | SAIC
May 16 | Pittston, PA | Len Carlin
May 18 | Minnetonka, MN | Fran Guido, USEPA Region 5
May 22 | Atlantic City, NJ | SAIC
May 25 | Green Bay, WI | Fran Guido, USEPA Region 5
May 30 | Philadelphia, PA | Chris Weber
May 30 | San Diego, CA | SAIC
May 31 | San Bernardino, CA | SAIC
¹ This schedule may change without further notice. A schedule reflecting any changes from this notice will be posted at http://www.epa.gov/tri.
² Manufacturing and select new industries only.
³ Mining and Electricity Generating Facilities only.
⁴ Registration fee may be required for these workshops.

Table 3.—Registration Contacts
Contact | Telephone | Fax | E-mail/Web Site
Scott Alquist TMCC | (775) 829-9000 | none | none
Len Carlin EDC of NE PA | (570) 655-5581 | none | none
Fran Guido USEPA Region 5 | (312) 886-4348 | none | none
Dan Roe Executive Director AZ ERC | (602) 231-6346 | none | http://dem.state.az.us/azserc/GK2000Main.htm
Jack Salter USEPA Region 8 | (303) 312-6026 | none | http://www.epa.gov/region08/ epcra/epcra.html
Jan Taylor NICS | (304) 346-6264 | none | none
Chris Weber Tascon, Inc. | (301) 315-9000 ext. 5100 | none | none
Stephen Wurtz USEPA Region 7 | (913) 551-7680 | (913) 551-5021 | luce.judy@epa.gov
SAIC | (703) 318-4504 | (703) 318-4644 | Training@EPCRA-TRI.com or http://www.EPCRA-TRI.com

V. How Much Will the Training Course Cost?

There is no registration fee for the 2-day EPCRA/TRI Training courses; however, there may be a registration fee for other EPCRA/TRI workshops (check with the registration contact for fees and further information). You may access information regarding registration fees via the TRI Home Page (http://www.epa.gov/tri) or by contacting the respective Registration Contact listed above (see Table 3 under Unit IV.). If there is insufficient interest at any of the training course locations, those courses may be canceled. The Agency bears no responsibility for your decision to purchase non-refundable transportation tickets or accommodation reservations.

List of Subjects

Environmental protection, Community right-to-know, Reporting and recordkeeping requirements, Toxics Release Inventory.

Dated: February 15, 2000.
Alvin Pesachowitz,
Associate Assistant Administrator, Office of Environmental Information.

[FR Doc. 00-4422 Filed 2-24-00; 8:45 am]

BILLING CODE 6560-50-F